THE PRESIDIO TRUST

Proposed Use Limit of Battery Caulfield Road and Request for Comments

AGENCY: The Presidio Trust.

ACTION: Notice.

SUMMARY: The Presidio Trust (Trust) is considering two approaches to limit vehicular use of a portion of Battery Caulfield Road in the Presidio of San Francisco (Presidio): (1) Limitation of vehicular use during weekday peak AM and PM hours, 7 to 9 a.m. and 5 to 7 p.m., as well as on weekends (Alternative 1); or (2) limitation of vehicular use at all times (Alternative 2). The proposed limitation on vehicular use is intended to reduce the amount of cut-through traffic to maintain public health and safety, to protect environmental values, to protect natural resources, and to avoid conflict among visitor uses. By restricting the use of Battery Caulfield Road, the Trust also intends to reduce the amount of traffic through the 14th and 15th Avenue gates. Under both Alternative 1 and Alternative 2, designated vehicles (e.g., emergency vehicles, PresidiGo shuttles and designated Presidio residents and tenants) will continue to have unrestricted access to Battery Caulfield Road, and access by pedestrians and bicyclists will remain unrestricted. The Trust invites comments on both of these proposed limits of public use.

Located in the Public Health Service Hospital (PHSH) District at the southern end of the Presidio, Battery Caulfield Road is not a major thoroughfare within the Presidio, but rather it is a narrow roadway connecting the upper and lower plateaus of the PHSH District (District). Battery Caulfield Road was built by the Army in 1984 to facilitate internal circulation, not to accommodate through-traffic. The road passes through sensitive wildlife areas and native plant communities, and recreational use of the area has increased with the expansion of the Presidio's trails and bikeways. Of the total daily traffic through the 15th Avenue gate, an estimated 350-550 cars use Battery Caulfield Road as a cut-through route, i.e., travel from an origin outside the Presidio to a destination outside the Presidio.

SUPPLEMENTARY INFORMATION: Under 36 CFR 1001.5, the Board of Directors of the Trust (Board) may impose public use limits or close all or a portion of the area administered by the Trust to all public use or to a specific use or activity, given a determination that such action is necessary to maintain public health and safety, to protect environmental or scenic values, to protect natural or cultural resources, or to avoid conflict among visitor use activities. In its April 2007 Record of Decision for the development of the District, the Board identified its intent to restrict use of Battery Caulfield Road—“The Trust will undertake measures to discourage traffic not destined for the [District] from passing through the area, including considering restrictions on Battery Caulfield road to allow passage by [District] traffic only and will institute traffic-calming techniques to slow traffic through the district.” (p. 11, PHSH Record of Decision.)

By Resolution 08-5 adopted on November 13, 2007, the Board determined that limiting vehicular use of Battery Caulfield Road is necessary to maintain public health and safety, to protect environmental values, to protect natural resources, and to avoid conflict among visitor uses, and authorized the Trust Executive Director to implement Alternative 2. As 36 CFR 1001.5(c) encourages the achievement of public use limits by less restrictive measures where possible, subsequent to the adoption of Resolution 08-5 Trust staff revisited the approach to achieve the desired traffic limitation on Battery Caulfield Road, and have determined that it may possibly be met by Alternative 1, a closure that is limited to weekday peak hours and to weekends.

Under Alternative 1, northbound motor vehicle access on Battery Caulfield Road will be restricted beginning approximately at the northern edge of the parking lot at the District lower plateau. Advance warning signage within the District, within the park as a whole, and within the immediate areas of the City (subject to consent by the City of San Francisco) will notify drivers of the restrictions. Southbound traffic will be restricted at the intersection of Battery Caulfield Road and Washington Boulevard. Access by pedestrians and bicyclists will not be restricted, and the anticipated reduction in traffic is expected to improve conditions for these park users. If the Trust determines that Alternative 1 is insufficient to reduce the cut-through traffic adequately, then the Trust will implement Alternative 2.

Reference: 16 U.S.C. 460bb appendix; 36 CFR 1001.5.

FOR FURTHER INFORMATION CONTACT: John Fa (415.561.5065), The Presidio Trust, 34 Graham Street, P.O. Box 29052, San Francisco, CA 94129-0052.

Comments: Address all written comments about Alternative 1, Alternative 2, or both to: The Planning Department, The Presidio Trust, 34 Graham Street, P.O. Box 29052, San Francisco, CA 94129-0052. Comments must be received by the Trust no later than September 1, 2010. All written comments submitted to the Trust will be considered, and this proposed use limit may be modified accordingly. The final decision of the Trust will be published in the Federal Register.

If individuals submitting comments request that their address or other contact information be withheld from public disclosure, it will be honored to the extent allowable by law. Such requests must be stated prominently at the beginning of the comments. The Trust will make available for public inspection all submissions from organizations or businesses and from persons identifying themselves as representatives or officials of organizations and businesses. Anonymous comments may not be considered.

Dated: July 22, 2010.
Karen A. Cook,
General Counsel.

[FR Doc. 2010-18568 Filed 7-28-10; 8:45 am]

BILLING CODE 4310-4R-P